DEPARTMENT OF ENERGY

Federal Energy Regulatory Commission

[Docket No. ER00-978-000, et al.]

Bangor Hydro Electric Company et al.; Electric Rate and Corporate Regulation Filings

February 1, 2000.

Take notice that the following filings have been made with the Commission:

1. Bangor Hydro Electric Company

[Docket No. ER00-978-000]

Take notice that on January 27, 2000, Bangor Hydro-Electric Company tendered for filing a Notice of Withdrawal of its December 30, 1999 filing of Notices of Cancellation of its FERC Electric Rate Schedules Nos. 7 (Eastern Maine Electric Cooperative, Inc.), 27 (Swan's Island Electric Cooperative), and 52 (Isle Au Haut Electric Power Company) to be effective March 1, 2000.

Copies of the filing were served upon the service list in this proceeding, the affected purchasers, Swan's Island Electric Cooperative, Eastern Maine Electric Cooperative, Inc., Isle Au Haut Electric Power Company, the Maine Public Utilities Commission, and Maine Public Advocate.

Comment date: February 17, 2000, in accordance with Standard Paragraph E at the end of this notice.

2. California Power Exchange Corporation, California Power Exchange Corporation, Avista Corporation, Hardee Power Partners Limited, Elwood Energy LLC, Tampa Electric Company

[Docket Nos. ER00-1217-000; ER00-1218-000; ER00-1235-000; ER00-1237-000; ER00-1236-000; and ER00-1238-000]

Take notice that on January 27, 2000, the above-mentioned affiliated power producers and/or public utilities filed their quarterly reports for the quarter ending December 31, 1999.

Comment date: February 22, 2000, in accordance with Standard Paragraph E at the end of this notice.

3. Delmarva Power & Light Company

[Docket No. ER00-1219-000]

Take notice that on January 27, 2000, Delmarva Power & Light Company (Delmarva) filed a new Interconnection Agreement dated January 25, 2000 between Delmarva and the City of Dover, Delaware.

Delmarva requests an effective date of February 1, 2000, in accordance with the terms of the agreement.

The submittal also includes a notice of withdrawal by the City of Dover and its agent, Duke/Louis Dreyfus, LLC, of their requests for rehearing regarding interconnection agreement issues in Docket Nos. OA97-586-001, EL98-27-001, ER97-3189-019 and ER99-2367-001.

Comment date: February 17, 2000, in accordance with Standard Paragraph E at the end of this notice.

4. MidAmerican Energy Company

[Docket No. ER00-1225-000]

Take notice that on January 27, 2000, MidAmerican Energy Company (MidAmerican), 666 Grand Avenue, Des Moines, Iowa 50303 submitted for filing with the Commission a Service Agreement dated October 28, 1999, with Central Illinois Light Company entered into pursuant to MidAmerican's Rate Schedule for Power Sales, FERC Electric Tariff, Original Volume No. 5 (Tariff).

MidAmerican requests an effective date of January 1, 2000 for this Agreement, and accordingly seeks a waiver of the Commission's notice requirement.

MidAmerican has served a copy of the filing on Central Illinois Light Company, the Iowa Utilities Board, the Illinois Commerce Commission and the South Dakota Public Utilities Commission.

Comment date: February 17, 2000, in accordance with Standard Paragraph E at the end of this notice.

5. MidAmerican Energy Company

[Docket No. ER00-1226-000]

Take notice that on January 27, 2000, MidAmerican Energy Company (MidAmerican), 666 Grand Avenue, Des Moines, Iowa 50303 submitted for filing with the Commission a Service Agreement dated December 1, 1999, with Peoples Energy Services entered into pursuant to MidAmerican's Rate Schedule for Power Sales, FERC Electric Tariff, Original Volume No. 5 (Tariff).

MidAmerican requests an effective date of December 27, 1999 for this Agreement, and accordingly seeks a waiver of the Commission's notice requirement.

MidAmerican has served a copy of the filing on Peoples Energy Services, the Iowa Utilities Board, the Illinois Commerce Commission and the South Dakota Public Utilities Commission.

Comment date: February 17, 2000, in accordance with Standard Paragraph E at the end of this notice.

6. MidAmerican Energy Company

[Docket No. ER00-1227-000]

Take notice that on January 27, 2000, MidAmerican Energy Company (MidAmerican), 666 Grand Avenue, Des Moines, Iowa 50303 submitted for filing with the Commission a Service Agreement dated November 23, 1999, with New Energy, Inc. entered into pursuant to MidAmerican's Rate Schedule for Power Sales, FERC Electric Tariff, Original Volume No. 5 (Tariff).

MidAmerican requests an effective date of January 1, 2000 for this Agreement, and accordingly seeks a waiver of the Commission's notice requirement.

MidAmerican has served a copy of the filing on New Energy, Inc., the Iowa Utilities Board, the Illinois Commerce Commission and the South Dakota Public Utilities Commission.

Comment date: February 17, 2000, in accordance with Standard Paragraph E at the end of this notice.

7. MidAmerican Energy Company

[Docket No. ER00-1228-000]

Take notice that on January 27, 2000, MidAmerican Energy Company (MidAmerican), 666 Grand Avenue, Des Moines, Iowa 50303 submitted for filing with the Commission a Service Agreement dated January 3, 2000, with TXU Energy Trading Company entered into pursuant to MidAmerican's Rate Schedule for Power Sales, FERC Electric Tariff, Original Volume No. 5 (Tariff).

MidAmerican requests an effective date of January 1, 2000 for this Agreement, and accordingly seeks a waiver of the Commission's notice requirement.

MidAmerican has served a copy of the filing on TXU Energy Trading Company, the Iowa Utilities Board, the Illinois Commerce Commission and the South Dakota Public Utilities Commission.

Comment date: February 17, 2000, in accordance with Standard Paragraph E at the end of this notice.

8. MidAmerican Energy Company

[Docket No. ER00-1229-000]

Take notice that on January 27, 2000, MidAmerican Energy Company (MidAmerican), 666 Grand Avenue, Des Moines, Iowa 50303 submitted for filing with the Commission a Service Agreement dated October 1, 1999, with Illinova Power Marketing, Inc. entered into pursuant to MidAmerican's Rate Schedule for Power Sales, FERC Electric Tariff, Original Volume No. 5 (Tariff).

MidAmerican requests an effective date of January 1, 2000 for this Agreement, and accordingly seeks a waiver of the Commission's notice requirement.

MidAmerican has served a copy of the filing on Illinova Power Marketing, Inc., the Iowa Utilities Board, the Illinois Commerce Commission and the South Dakota Public Utilities Commission.

Comment date: February 17, 2000, in accordance with Standard Paragraph E at the end of this notice.

9. MidAmerican Energy Company

[Docket No. ER00-1230-000]

Take notice that on January 27, 2000, MidAmerican Energy Company (MidAmerican), 666 Grand Avenue, Des Moines, Iowa 50303 submitted for filing with the Commission a Service Agreement dated October 6, 1999, with NRG Power Marketing, Inc. entered into pursuant to MidAmerican's Rate Schedule for Power Sales, FERC Electric Tariff, Original Volume No. 5 (Tariff).

MidAmerican requests an effective date of January 1, 2000 for this Agreement, and accordingly seeks a waiver of the Commission's notice requirement.

MidAmerican has served a copy of the filing on NRG Power Marketing, Inc., the Iowa Utilities Board, the Illinois Commerce Commission and the South Dakota Public Utilities Commission.

Comment date: February 17, 2000, in accordance with Standard Paragraph E at the end of this notice.

10. Northern States Power Company (Minnesota Company)

[Docket No. ER00-1231-000]

Take notice that on January 27, 2000, Northern States Power Company (Minnesota) (NSP) tendered for filing the Amendment No.1 to the Distribution Facilities Agreement (Contract) between the City of Arlington (City) and NSP.

NSP requests that the Commission accept the Agreements effective January 1, 2000, and requests waiver of the Commission's notice requirements in order for the Amendment and Revisions to be accepted for filing on the date requested.

Comment date: February 17, 2000, in accordance with Standard Paragraph E at the end of this notice.

11. Northern States Power Company (Minnesota Company)

[Docket No. ER00-1232-000]

Take notice that on January 27, 2000, Northern States Power Company (Minnesota) (NSP) tendered for filing the Amendment No.1 to the Distribution Facilities Agreement (Contract) between the City of Brownton (City) and NSP.

NSP requests that the Commission accept the Agreements effective January 1, 2000, and requests waiver of the Commission's notice requirements in order for the Amendment and Revisions to be accepted for filing on the date requested.

Comment date: February 17, 2000, in accordance with Standard Paragraph E at the end of this notice.

12. Northern States Power Company (Minnesota Company)

[Docket No. ER00-1233-000]

Take notice that on January 27, 2000, Northern States Power Company (Minnesota) (NSP) tendered for filing the Amendment No.1 to the Distribution Facilities Agreement (Contract) between the City of Winthrop (City) and NSP.

NSP requests that the Commission accept the Agreements effective January 1, 2000, and requests waiver of the Commission's notice requirements in order for the Amendment and Revisions to be accepted for filing on the date requested.

Comment date: February 17, 2000, in accordance with Standard Paragraph E at the end of this notice.

13. Northern States Power Company (Minnesota Company)

[Docket No. ER00-1234-000]

Take notice that on January 27, 2000, Northern States Power Company (Minnesota) (NSP) tendered for filing an Agreement to extend the Distribution Facilities Agreement between NSP and the City of Shakopee, Minnesota (City), and an Agreement to extend a previously approved interim rate for the period January 1, 2000, through December 31, 2000.

NSP requests the Agreement be accepted for filing effective January 1, 2000, and requests waiver of the Commission's notice requirements in order for the Agreement to be accepted for filing on the date requested.

Comment date: February 17, 2000, in accordance with Standard Paragraph E at the end of this notice.

14. California Independent System Operator Corporation

[Docket No. ER00-1239-000]

Take notice that on January 27, 2000, the California Independent System Operator Corporation (ISO) tendered for filing a proposed amendment (Amendment No. 25) to the ISO Tariff. Amendment No. 25 includes proposed Tariff and Protocols revisions, concerning imports of Regulation, release of bid information, Firm Transmission Right implementation, Reliability Must-Run Generation cost allocation, Transmission Owner debit clarification, implementation of the Phase II Payments Calendar, and Transmission Maintenance Outage Scheduling.

The ISO states that this filing has been served upon the Public Utilities Commission of California, the California Energy Commission, the California Electricity Oversight Board, and all parties with effective Scheduling Coordinator Service Agreements under the ISO Tariff.

Comment date: February 17, 2000, in accordance with Standard Paragraph E at the end of this notice.

15. Entergy Services, Inc.

[Docket No. ER00-1240-000]

Take notice that on January 27, 2000, Entergy Services, Inc., on behalf of Entergy Arkansas, Inc., Entergy Gulf States, Inc., Entergy Louisiana, Inc., Entergy Mississippi, Inc., and Entergy New Orleans, Inc., (collectively, the Entergy Operating Companies) tendered for filing a Non-Firm Point-to-Point Transmission Service Agreement and a Short-Term Firm Point-to-Point Transmission Service Agreement, both between Entergy Services, Inc., as agent for the Entergy Operating Companies, and British Columbia Power Exchange Corporation.

Entergy Services requests that the service agreements become effective January 10, 2000.

Comment date: February 17, 2000, in accordance with Standard Paragraph E at the end of this notice.

16. Entergy Services, Inc.

[Docket No. ER00-1241-000]

Take notice that on January 27, 2000, Entergy Services, Inc., on behalf of Entergy Arkansas, Inc., Entergy Gulf States, Inc., Entergy Louisiana, Inc., Entergy Mississippi, Inc., and Entergy New Orleans, Inc., (collectively, the Entergy Operating Companies) tendered for filing a Non-Firm Point-to-Point Transmission Service Agreement and a Short-Term Firm Point-to-Point Transmission Service Agreement, both between Entergy Services, Inc., as agent for the Entergy Operating Companies, and Utilicorp United, Inc.

Comment date: February 17, 2000, in accordance with Standard Paragraph E at the end of this notice.

17. UtiliCorp United Inc.

[Docket No. ES00-15-000]

Take notice that on January 21, 2000, UtiliCorp United Inc. (Applicant) filed an application seeking an order under Section 204(a) of the Federal Power Act authorizing the Applicant to issue and sell up to and including 1,500,000 shares of common stock, pursuant to the 1986 UtiliCorp United Inc. Employee Stock Purchase Plan.

Comment date: February 22, 2000, in accordance with Standard Paragraph E at the end of this notice.

18. MidAmerican Energy Company

[Docket No. ER00-1223-000]

Take notice that on January 27, 2000, MidAmerican Energy Company (MidAmerican), 666 Grand Avenue, Des Moines, Iowa 50303 tendered for filing with the Commission a Service Agreement dated December 14, 1999, with Northern Indiana Public Service Company entered into pursuant to MidAmerican's Rate Schedule for Power Sales, FERC Electric Tariff, Original Volume No. 5 (Tariff).

MidAmerican requests an effective date of January 1, 2000 for this Agreement, and accordingly seeks a waiver of the Commission's notice requirement.

MidAmerican has served a copy of the filing on Northern Indiana Public Service Company, the Iowa Utilities Board, the Illinois Commerce Commission and the South Dakota Public Utilities Commission.

Comment date: February 17, 2000, in accordance with Standard Paragraph E at the end of this notice.

19. Allegheny Energy Service Corporation, on Behalf of Allegheny Energy Supply Company LLC

[Docket No. ER00-907-000]

Take notice that on January 27, 2000, Allegheny Energy Service Corporation on behalf of Allegheny Energy Supply Company, LLC (Allegheny Energy Supply Company), tendered for filing Amendment No. 1 to Supplement No. 10 to complete the filing requirement for one (1) new Customer of the Market Rate Tariff under which Allegheny Energy Supply offers generation services.

Allegheny Energy requests a waiver of notice requirements to make service available as of November 29, 1999, to PP&L, Inc.

Copies of the filing have been provided to the Public Utilities Commission of Ohio, the Pennsylvania Public Utility Commission, the Maryland Public Service Commission, the Virginia State Corporation Commission, the West Virginia Public Service Commission, and all parties of record.

Comment date: February 17, 2000, in accordance with Standard Paragraph E at the end of this notice.

20. Cleco Evangeline LLC

[Docket No. ER00-1271-000]

Take notice that on January 27, 2000, Cleco Evangeline LLC (Evangeline), tendered for filing an umbrella service agreement under which Evangeline will make market-based power sales under its power marketer tariff to the City of Alexandria, Louisiana. Evangeline is an affiliate of Cleco Utility Group Inc., a public utility subject to the Commission's jurisdiction under the Federal Power Act, 16 U.S.C. § 791a et seq.

Evangeline states that a copy of the filing has been served upon the City of Alexandria, Louisiana.

Comment date: February 17, 2000, in accordance with Standard Paragraph E at the end of this notice.

21. Allegheny Energy Service Corporation, on Behalf of Monongahela Power Company, The Potomac Edison Company and West Penn Power Company (Allegheny Power)

[Docket No. ER00-1262-000]

Take notice that on January 27, 2000, Allegheny Energy Service Corporation on behalf of Monongahela Power Company, The Potomac Edison Company and West Penn Power Company (Allegheny Power), tendered for filing a request to amend their Pro Forma Open Access Transmission Tariff to make format and editorial changes, to incorporate the North American Electric Reliability Council's Transmission Loading Relief Procedures, adopted by the Commission on December 16, 1998 at Docket No. EL98-52-000, to waive the deposit requirement for creditworthy customers, and to clarify scheduling procedures.

Copies of the filing have been provided to the Public Utilities Commission of Ohio, the Pennsylvania Public Utility Commission, the Maryland Public Service Commission, the Virginia State Corporation Commission, the West Virginia Public Service Commission, and all parties of record.

Comment date: February 17, 2000, in accordance with Standard Paragraph E at the end of this notice.

22. Allegheny Energy Service Corporation on Behalf of Allegheny Energy Supply Company, LLC

[Docket No. ER00-1263-000]

Take notice that on January 27, 2000, Allegheny Energy Service Corporation on behalf of Allegheny Energy Supply Company, LLC (Allegheny Energy Supply), tendered for filing Supplement No. 19 to add one (1) new Customer to the Market Rate Tariff under which Allegheny Energy Supply offers generation services.

Allegheny Energy Supply requests a waiver of notice requirements to make service available as of December 15, 1999 or as of a date determined by the Commission to Duquesne Light Company.

Copies of the filing have been provided to the Public Utilities Commission of Ohio, the Pennsylvania Public Utility Commission, the Maryland Public Service Commission, the Virginia State Corporation Commission, the West Virginia Public Service Commission, and all parties of record.

Comment date: February 17, 2000, in accordance with Standard Paragraph E at the end of this notice.

23. Northeast Utilities Service Company

[Docket No. ER00-1305-000]

Take notice that on January 27, 2000, Northeast Utilities Service Company (NUSCO), tendered for filing a Service Agreement with Great Bay Power Corporation (Great Bay) under the NU System Companies' Sale for Resale Tariff No. 7.

NUSCO states that a copy of this filing has been mailed to Great Bay.

NUSCO requests that the Service Agreement become effective January 8, 2000.

Comment date: February 17, 2000, in accordance with Standard Paragraph E at the end of this notice.

24. New Century Services, Inc.

[Docket No. ER00-1306-000]

Take notice that on January 27, 2000, New Century Services, Inc., on behalf of Cheyenne Light, Fuel and Power Company, Public Service Company of Colorado, and Southwestern Public Service Company (collectively Companies), tendered for filing a Service Agreement for Network Integration Transmission Service and a Network Operating Agreement between the Companies and Municipal Energy Agency of Nebraska.

Comment date: February 17, 2000, in accordance with Standard Paragraph E at the end of this notice.

25. New Century Services, Inc.

[Docket No. ER00-1307-000]

Take notice that on January 27, 2000, New Century Services, Inc., on behalf of Cheyenne Light, Fuel and Power Company, Public Service Company of Colorado, and Southwestern Public Service Company (collectively Companies), tendered for filing a Service Agreement under their Joint Open Access Transmission Service Tariff for Long Term Firm Point-to-Point Transmission Service between the Companies and Southwestern Public Service Company—Wholesale Merchant Function.

Comment date: February 17, 2000, in accordance with Standard Paragraph E at the end of this notice.

26. New Century Services, Inc.

[Docket No. ER00-1308-000]

Take notice that on January 27, 2000, New Century Services, Inc., on behalf of Cheyenne Light, Fuel and Power Company, Public Service Company of Colorado, and Southwestern Public Service Company (collectively Companies), tendered for filing a Service Agreement under their Joint Open Access Transmission Service Tariff for Long Term Firm Point-to-Point Transmission Service between the Companies and Southwestern Public Service Company—Wholesale Merchant Function.

Comment date: February 17, 2000, in accordance with Standard Paragraph E at the end of this notice.

27. Allegheny Energy Service Corporation on Behalf of Allegheny Energy Supply Company, LLC

[Docket No. ER00-1309-000]

Take notice that on January 27, 2000, Allegheny Energy Service Corporation on behalf of Allegheny Energy Supply Company, LLC (Allegheny Energy Supply), tendered for filing Supplement No. 18 to add one (1) new Customer to the Market Rate Tariff under which Allegheny Energy Supply offers generation services.

Allegheny Energy Supply requests a waiver of notice requirements to make service available as of December 8, 1999 or as of a date determined by the Commission to Coral Power, L.L.C.

Copies of the filing have been provided to the Public Utilities Commission of Ohio, the Pennsylvania Public Utility Commission, the Maryland Public Service Commission, the Virginia State Corporation Commission, the West Virginia Public Service Commission, and all parties of record.

Comment date: February 17, 2000, in accordance with Standard Paragraph E at the end of this notice.

28. Florida Power & Light Company

[Docket No. ER00-1310-000]

Take notice that on January 27, 2000, Florida Power & Light Company (FPL), tendered for filing proposed service agreements with The Legacy Energy Group, LLC for Short-Term Firm and Non-Firm transmission service under FPL's Open Access Transmission Tariff.

FPL requests that the proposed service agreements are permitted to become effective on February 1, 2000.

FPL states that this filing is in accordance with Part 35 of the Commission's Regulations.

Comment date: February 17, 2000, in accordance with Standard Paragraph E at the end of this notice.

29. Ameren Services Company

[Docket No. ER00-1311-000]

Take notice that on January 27, 2000, Ameren Services Company (ASC), the transmission provider, tendered for filing a Service Agreement for Long-Term Firm Point-to-Point Transmission Service between ASC and Reliant Energy Services, Inc., (RES). ASC asserts that the purpose of the Agreement is to permit ASC to provide transmission service to RES pursuant to Ameren's Open Access Transmission Tariff filed in Docket No. ER96-677-004.

Comment date: February 17, 2000, in accordance with Standard Paragraph E at the end of this notice.

30. Ameren Services Company

[Docket No. ER00-1312-000]

Take notice that on January 27, 2000, Ameren Services Company (ASC), the transmission provider, tendered for filing a Service Agreement for Long-Term Firm Point-to-Point Transmission Service between ASC and Reliant Energy Services, Inc. (RES). ASC asserts that the purpose of the Agreement is to permit ASC to provide transmission service to RES pursuant to Ameren's Open Access Transmission Tariff filed in Docket No. ER96-677-004.

Comment date: February 17, 2000, in accordance with Standard Paragraph E at the end of this notice.

31. Ameren Services Company

[Docket No. ER00-1313-000]

Take notice that on January 27, 2000, Ameren Services Company (ASC), the transmission provider, tendered for filing a Service Agreement for Long-Term Firm Point-to-Point Transmission Service between ASC and Dynegy Power Marketing, Inc., (DPM). ASC asserts that the purpose of the Agreement is to permit ASC to provide transmission service to DPM pursuant to Ameren's Open Access Transmission Tariff filed in Docket No. ER96-677-004.

Comment date: February 17, 2000, in accordance with Standard Paragraph E at the end of this notice.

32. Ameren Services Company

[Docket No. ER00-1314-000]

Take notice that on January 27, 2000, Ameren Services Company (ASC), the transmission provider, tendered for filing a Service Agreement for Long-Term Firm Point-to-Point Transmission Service between ASC and Dynegy Power Marketing, Inc. (DPM). ASC asserts that the purpose of the Agreement is to permit ASC to provide transmission service to DPM pursuant to Ameren's Open Access Transmission Tariff filed in Docket No. ER96-677-004.

Comment date: February 17, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-2747 Filed 2-7-00; 8:45 am]

BILLING CODE 6717-01-P